DEPARTMENT OF THE INTERIOR

Fish and Wildlife Service

Proposed Information Collection; Export of Fertilized Live Eggs, Caviar, or Meat from Aquacultured Paddlefish or Sturgeon (CITES)

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC.

DATES: You must submit comments on or before September 10, 2007.

ADDRESSES: Send your comments on the IC to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this IC, contact Hope Grey by mail, fax, or e-mail (see ADDRESSES) or by telephone at (703) 358-2482.

SUPPLEMENTARY INFORMATION:

I. Abstract

This information collection is associated with regulations implementing the Convention on International Trade in Endangered Species of Wild Fauna and Flora (CITES). CITES regulates international trade in listed species through a system of permits and certificates. We assess permit requests according to criteria in CITES and Federal regulations (50 CFR parts 13 and 23) for the issuance, suspension, revocation, or denial of permits.

We have developed a new permit application form (FWS Form 3-200-80) specific to permit requests for the export of fertilized live eggs, caviar, or meat from aquacultured paddlefish or sturgeon. In the past, we have used FWS Form 3-200-24 (Export of Captive Born Wildlife) to collect the information necessary for us to evaluate these permit requests. When using that general form, applicants have had considerable difficulty understanding what information is necessary and how to supply it. The proposed form clarifies these issues. The information we plan to collect includes, but is not limited to:

(1) Each species from which product will be exported.

(2) Production facilities.

(3) Documentation showing the number of brood stock spawned annually.

(4) Estimated weight of eggs produced annually.

(5) Total caviar harvested annually (by weight).

(6) Mortality rates by age class.

(7) How captive population is managed to maintain genetic vitality.

(8) Whether or not population is supplemented by wild-origin fish.

(9) Roe to be exported.

II. Data

OMB Control Number: None. This is a new collection.

Title: Export of Fertilized Live Eggs, Caviar, or Meat from Aquacultured Paddlefish or Sturgeon (CITES), 50 CFR 13 and 23.

Service Form Number(s): 3-200-80.

Type of Request: New collection.

Affected Public: Individuals and commercial exporters of paddlefish and sturgeon caviar and meat; State, tribal, Federal, and local governments.

Respondent's Obligation: Required to obtain or retain a benefit.

Frequency of Collection: On occasion.

Estimated Annual Number of Respondents: 5.

Estimated Total Annual Responses: 5.

Estimated Time Per Response: 2 hours.

Estimated Total Annual Burden Hours: 10.

Estimated Total Nonhour Burden Cost: $300 for application fees.

III. Request for Comments

We invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. We will include and/or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: June 25, 2007
Hope Grey,
Information Collection Clearance Officer, Fish and Wildlife Service.

[FR Doc. E7-13415 Filed 7-10-07; 8:45 am]

BILLING CODE 4310-55-S